DEPARTMENT OF ENERGY

Federal Energy Regulatory Commission

[Project No. 11879-001—Idaho]

Symbiotics, LLC; Notice of Availability of Environmental Assessment

September 28, 2007.

In accordance with the National Environmental Policy Act of 1969, as amended, and Federal Energy Regulatory Commission (Commission or FERC) regulations (18 CFR part 380), Commission staff have reviewed the license application for the Chester Diversion Hydroelectric Project (FERC No. 11879) and have prepared a draft environmental assessment (EA) on the proposed action. The project is located on the Henry's Fork of the Snake River in Fremont County, Idaho, downstream of some of the most well-known fly fishing areas in the country.

Symbiotics, LLC (applicant) filed an application for license with the Commission for an original license for the 3.3-megawatt (MW) Chester Diversion Hydroelectric Project, using the existing Cross Cut Diversion dam (Chester Diversion dam).¹ In this draft EA, Commission staff analyzes the probable environmental effects of construction and operation of the project and have concluded that approval of the license, with appropriate staff-recommended environmental measures, would not constitute a major federal action significantly affecting the quality of the human environment.

¹ The Chester Diversion dam was initially constructed as the “Cross Cut Diversion dam” because it served as the diversion dam for the Cross Cut irrigation canal. It now also serves as the diversion dam for the Last Chance irrigation canal, and because of its location near Chester, Idaho, is now referred to as the Chester Diversion dam. While both names are appropriate, we use the “Chester Diversion” moniker for consistency and clarity in this EA.

Copies of the draft EA are available for review in Public Reference Room 2-A of the Commission's offices at 888 First Street, NE., Washington, DC. The draft EA also may be viewed on the Commission's Internet Web site (http://www.ferc.gov) using the “eLibrary” link. Additional information about the project is available from the Commission's Office of External Affairs, at (202) 502-6088, or on the Commission's Web site using the eLibrary link. For assistance with eLibrary, contact FERCOnlineSupport@ferc.gov or call toll-free at (866) 208-3676, or for TTY contact (202) 502-8659.

Any comments on the draft EA should be filed within 30 days of the date of this notice and should be addressed to Kimberly D. Bose, Secretary, Federal Energy Regulatory Commission, 888 First Street, NE., Washington, DC 20426. Please reference “Chester Diversion Hydroelectric Project, FERC Project No. 11879-001” on all comments. Comments may be filed electronically via the Internet in lieu of paper. See 18 CFR 385.2001(a)(1)(iii) and the instructions on the Commission's Web site under the “e-Filing” link.

Kimberly D. Bose,
Secretary.

[FR Doc. E7-19786 Filed 10-5-07; 8:45 am]

BILLING CODE 6717-01-P